DEPARTMENT OF JUSTICE

Notice Lodging of Proposed Consent Decree Under the Comprehensive Environmental Response, Compensation, and Liability Act

On September 15, 2020 the Department of Justice lodged a proposed Consent Decree with the United States District Court for the Southern District of Iowa in the lawsuit entitled United States v. Dico, Inc. and Titan Tire Corporation, Civil Action No. 4:10-cv-00503-RP-RAW.

The United States filed this lawsuit under the Comprehensive Environmental Response, Compensation, and Liability Act (“CERCLA”). The United States' complaint sought civil penalties and punitive damages against Dico, Inc. for violations of an EPA order at the Des Moines TCE Superfund Site and the recovery of the United States' past and future response costs at the Southern Iowa Mechanical (“SIM”) Site against Dico, Inc. and Titan Tire Corporation jointly and severally. The United States obtained judgments against Dico, Inc. for $1.62 million in civil penalties and $5.45 million in punitive damages, and against Dico, Inc. and Titan Tire Corporation jointly and severally for past response costs of $5.45 million and all future response costs at the SIM Site. The Consent Decree requires the Defendants and their ultimate parent company, Titan Tire International, Inc., jointly and severally, to pay $11.5 million to satisfy these judgments and a separate judgment obtained by the United States on March 29, 2000 in Case No. 4-95-cv-10289 (S.D. Iowa) against Dico, Inc. for $4.12 million in past response costs at the Des Moines TCE Site. The Consent Decree also requires Dico, Inc. to donate or convey the Dico Property to the City of Des Moines (the “City”) for no more than $10.00. Under the Consent Decree, the City will undertake certain response actions at the Dico Property, including ongoing operation and maintenance of the groundwater treatment remedy. EPA will also undertake certain response actions at the Site under the Consent Decree, including demolition of the remaining contaminated buildings, a removal action at the South Pond, and an upgrade to the groundwater treatment system. In exchange for these commitments, the United States agrees not to sue the Defendants, Titan International, Inc., and the City under CERCLA Sections 106 and 107.

The publication of this notice opens a period for public comment on the Consent Decree. Comments should be addressed to the Assistant Attorney General, Environment and Natural Resources Division, and should refer to United States v. Dico, Inc. and Titan Tire Corporation, D.J. Ref. No. 90-11-3-09925. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $34.50 (25 cents per page reproduction cost) payable to the United States Treasury. For a paper copy without the appendices and signature pages, the cost is $9.50.

Susan M. Akers,
Assistant Section Chief, Environmental Enforcement Section, Environment and Natural Resources Division.

[FR Doc. 2020-20835 Filed 9-21-20; 8:45 am]

BILLING CODE 4410-15-P